INTERNATIONAL TRADE COMMISSION

[Investigation 332-434]

U.S.-Chile Free Trade Agreement: Potential Economywide and Selected Sectoral Effects

AGENCY: United States International Trade Commission.

ACTION: Institution of investigation and invitation for written submissions.

EFFECTIVE DATE: November 23, 2001.

SUMMARY: Following receipt of a request on November 13, 2001, from the United States Trade Representative (USTR), the Commission instituted investigation No. 332-434, U.S.-Chile Free Trade Agreement: Potential Economywide and Selected Sectoral Effects, under section 332(g) of the Tariff Act of 1930 (19 U.S.C. 1332(g)).

As requested by USTR, the Commission's report on the investigation will include:

• A concise description of the Chilean economy, patterns of trade with the United States and other major trade partners, and the tariff and investment relationship between the United States and Chile.

• A quantitative analysis of the likely trade and economywide economic impacts of a United States-Chile FTA by sector.

• A supplementary qualitative analysis of the impact of a U.S.-Chile FTA on product sectors to be identified by USTR.

• A discussion of potential trade and economic effects of the elimination of barriers to trade in services under a U.S.-Chile FTA.

The Commission plans to submit its report on January 17, 2002. USTR indicated that portions of the report will be classified as “Confidential.”

FOR FURTHER INFORMATION CONTACT: Information may be obtained from James Stamps, Project Leader, Office of Economics (202-205-3227) or, for industry-specific information, from Dennis Rapkins, Deputy Project Leader, Office of Industries, (202-205-3406), U.S. International Trade Commission, Washington, DC, 20436. For information on the legal aspects of this investigation, contact William Gearhart of the Office of the General Counsel (202-205-3091). Hearing impaired individuals are advised that information on this matter can be obtained by contacting the TDD terminal on (202) 205-1810.

Written Submissions: The Commission does not plan to hold a public hearing in connection with this investigation. However, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available in the Office of the Secretary of the Commission for inspection by interested parties. To be assured of consideration by the Commission, written statements relating to the Commission's report should be submitted to the Commission at the earliest practical date and should be received no later than the close of business on December 12, 2001. All submissions should be addressed to the Secretary, United States International Trade Commission, 500 E Street SW, Washington, DC 20436. The Commission's rules do not authorize filing submissions with the Secretary by facsimile or electronic means.

Persons with mobility impairments who will need special assistance in gaining access to the Commission should contact the Office of the Secretary at 202-205-2000. General information concerning the Commission may also be obtained by accessing its Internet server (http://www.usitc.gov).

List of Subjects: Chile, tariffs, trade, imports, and exports.

By order of the Commission.
Issued: November 23, 2001.
Donna R. Koehnke,
Secretary.

[FR Doc. 01-29588 Filed 11-27-01; 8:45 am]

BILLING CODE 7020-02-P